DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by December 26, 2025 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Food and Nutrition Service

Title: Supplemental Nutrition Assistance Program—Supplemental Nutrition Assistance for Victims of Disasters.

OMB Control Number: 0584-0336.

Summary of Collection: The authority to operate the Disaster Supplemental Nutrition Assistance Program (D-SNAP) is found in section 5(h) of the Food and Nutrition Act of 2008, formerly the Food Stamp Act of 1977, as amended and the Disaster Relief Act of 1974, as amended by the Robert T. Stafford Disaster Relief and Assistance Act of 1988 authorizes the Secretary of Agriculture to establish temporary emergency standards of eligibility for victims of a disaster if the commercial channels of food distribution have been disrupted, and subsequently restored. D-SNAP is a program that is separate from the Supplemental Nutrition Assistance Program (SNAP) and is conducted for a specific period of time. In order for a State to request to operate a D-SNAP, an affected area in the State must have received a Presidential Declaration of “Major Disaster” with Individual Assistance.

Need and Use of the Information: This information collection concerns information obtained from State agencies seeking to operate D-SNAP. A State agency request to operate a D-SNAP must contain the following information: Description of incident; geographic area; application period; benefit period; eligibility criteria; ongoing household eligibility; affected population; electronic benefit card issuance process; logistical plans for Disaster SNAP rollout; staffing; public information outreach; duplicate participation check process; fraud prevention strategies; and employee application procedures. The Food and Nutrition Service reviews the request to ensure that all the necessary requirements to conduct a D-SNAP are met. If this collection is not conducted, D-SNAP would not be available to help meet the nutritional needs of disaster victims.

Description of Respondents: State, Local, or Tribal Government.

Number of Respondents: 9.

Frequency of Responses: Reporting: On Occasion.

Total Burden Hours: 888.

Rachelle Ragland-Greene,
Departmental Information Collection Clearance Officer.

[FR Doc. 2025-21112 Filed 11-25-25; 8:45 am]

BILLING CODE 3410-30-P